DEPARTMENT OF THE INTERIOR

National Park Service

Notice of Inventory Completion: University of Idaho, Alfred W. Bowers Laboratory of Anthropology, Moscow, ID; and Washington State University, Museum of Anthropology, Pullman, WA

AGENCY: National Park Service, Interior.

ACTION: Notice.

Notice is here given in accordance with the Native American Graves Protection and Repatriation Act (NAGPRA), 25 U.S.C. 3003, of the completion of an inventory of human remains and associated funerary objects. The human remains are in the control of the University of Idaho, Alfred W. Bowers Laboratory of Anthropology, Moscow, ID. The associated funerary objects are in the possession of the Washington State University, Museum of Anthropology, Pullman, WA. The human remains and associated funerary objects were removed from the Asotin cemetery site (45-AS-9) in Asotin County, WA.

This notice is published as part of the National Park Service's administrative responsibilities under NAGPRA, 25 U.S.C. 3003(d)(3). The determinations within this notice are the sole responsibility of the museum, institution, or Federal agency that has control of the Native American human remains and associated funerary objects. The National Park Service is not responsible for the determinations within this notice.

A detailed assessment of the human remains was made by the professional staffs of the University of Idaho, Alfred W. Bowers Laboratory of Anthropology in consultation with representatives of the Nez Perce Tribe of Idaho. A detailed assessment of the associated funerary objects was made by the professional staff of Washington State University, Museum of Anthropology in consultation with representatives of the Confederated Tribes of the Colville Reservation of Washington and Nez Perce Tribe of Idaho.

In 1956, human remains representing a minimum of 25 individuals were removed during archeological excavations at the Asotin cemetery site (45-AS-9). The Asotin cemetery site is located on private property in Asotin County, WA. The excavations were conducted under the direction of Dr. Richard D. Daughtery. No known individuals were identified. The 921 associated funerary items are 1 lot (0.1 g) of wood fragments; 14 stone flakes; 1 chalcedony geode; 2 projectile points; 1 basalt blade; 1 pestle in 2 pieces; 1 basalt scraper; 19 flat shell beads; 175 whole dentalia shell beads; 1 lot (58.4 g) of dentalia shell bead fragments; 1 lot (3.3 g) of olivella shell fragments, 6 shell pendants; 218 elk tooth beads; 1 lot (62.9 g) of red ochre, 11 coffin nails; 105 brass beads; 1 metal bracelet covered with cotton canvas; 4 brass bracelets; 48 buttons; 2 coiled wire necklaces; 1 brass hook and eye set; 1 brass bead necklace; 1 lot (36.4 g) of hawk bell fragments; 1 brass powder horn cap; 1 powder or snuff can; 1 wire spring-like coil; 1 fragment of an ear or finger ring; 1 leather belt (in pieces) with a small brass buckle; 2 small unidentified metal fragments; 285 glass beads; 1 lot (68.6 g) of very small glass beads; 1 round mirror glass; 1 lot (40.0 g) of beadwork on leather backing; 1 crockery marble; 1 complete necklace of glass, olivella, and metal beads; 1 lot (34.6 g) of leather fragments; 1 lot (50.9 g) of fabric fragments; 1 lot (1.2 g) of ribbon fragments; 1 lot (0.1 g) of cotton string; 1 lot (31.9 g) of elk tooth bead fragments; and 4 hackberry seeds.

The human remains were kept at the Alfred W. Bowers Laboratory of Anthropology until 2000 when they were moved to Nez Perce National Historical Park, Spalding, ID. The Alfred W. Bowers Laboratory of Anthropology has maintained control of the human remains. The National Park Service does not have sufficient legal interest to lawfully treat the human remains as part of its collection.

Burial patterns and artifacts found at the site indicate that the burials removed from the Asotin cemetery site were interred between A.D. 1000 and the mid-19th century. Oral tradition and historical evidence indicate that the cemetery was used by two Nez Perce bands that inhabited the villages of Hasotino and Hesweiwewipu. Descendants of the two bands are known to be members of the Confederated Tribes of the Colville Reservation, Washington and Nez Perce Tribe of Idaho. The Asotin cemetery site is located within the area reserved by the Nez Perce under the Treaty of 1855, but was deleted from tribal lands in the Treaty of 1863. The Indian Claims Commission determined that the area in which the Asotin cemetery site is located was occupied exclusively by the Nez Perce at least since the mid-19th century.

Officials of the University of Idaho, Alfred W. Bowers Laboratory of Anthropology have determined that, pursuant to 25 U.S.C. 3001 (9-10), the human remains described above represent the physical remains of 25 individuals of Native American ancestry. Officials of the Washington State University, Museum of Anthropology have determined that, pursuant to 25 U.S.C. 3001(3)(A), the 921 objects described above are reasonably believed to have been placed with or near individual human remains at the time of death or later as part of the death rite or ceremony. Officials of the University of Idaho, Alfred W. Bowers Laboratory of Anthropology and Washington State University, Museums of Anthropology have determined that, pursuant to 25 U.S.C. 3001(2), there is a relationship of shared group identity that can be reasonably traced between the Native American human remains and associated funerary objects and the Confederated Tribes and the Colville Reservation, Washington and Nez Perce Tribe of Idaho.

Representatives of any other Indian tribe that believes itself to be culturally affiliated with the human remains should contact Leah Evans-Janke, Alfrew W. Bowers Laboratory of Anthropology, University of Idaho, Moscow, ID 83844-1111, telephone (208) 885-3733, before January 9, 2004.

Representatives of any other Indian tribe that believes itself to be culturally affiliated with the associated funerary objects should contact Mary Collins, Associate Director, Museum of Anthropology, Washington State University, P.O. Box 62291, Pullman, WA 99164-4910, telephone (509) 335-4314, before January 9, 2004.

Repatriation of the human remains and associated funerary objects to the Confederated Tribes of the Colville Reservation, Washington and Nez Perce Tribe of Idaho may proceed after that date if no additional claimants come forward.

The Museum of Anthropology, Washington State University is responsible for notifying the Confederated Tribes of the Colville Reservation, Washington; Nez Perce Tribe of Idaho; Alfred W. Bowers Laboratory of Anthropology, University of Idaho; and U.S. Department of Interior, National Park Service, Nez Perce National Historical Park that this notice has been published.

Dated: November 7, 2003.
John Robbins,
Assistant Director, Cultural Resources.

[FR Doc. 03-30566 Filed 12-9-03; 8:45 am]

BILLING CODE 4310-50-M